DEPARTMENT OF ENERGY

Federal Energy Regulatory Commission

Notice of Effectiveness of Exempt Wholesale Generator Status

Beowawe Power, LLC | EG21-20-000
Cameron Ridge, LLC | EG21-21-000
Cameron Ridge II, LLC | EG21-22-000
DifWind Farms LTD VI | EG21-23-000
Terra-Gen Dixie Valley, LLC | EG21-24-000
Garnet Wind, LLC | EG21-25-000
Pacific Crest Power, LLC | EG21-26-000
Ridgetop Energy, LLC | EG21-27-000
San Gorgonio Westwinds II, LLC | EG21-28-000
San Gorgonio Westwinds II—Windustries, LLC | EG21-29-000
Terra-Gen Mojave Windfarms, LLC | EG21-30-000
Terra-Gen VG Wind, LLC | EG21-31-000
Texas Big Spring, LLC | EG21-32-000
Yavi Energy, LLC | EG21-33-000
Hecate Energy Ramsey LLC | EG21-34-000
Flat Ridge Interconnection LLC | EG21-35-000
Central Line Solar, LLC | EG21-36-000
Luna Storage, LLC | EG21-37-000
RE Slate 1 LLC | EG21-38-000
Haystack Wind Project, LLC | EG21-39-000
KCE TX 11, LLC | EG21-41-000
KCE TX 12, LLC | EG21-42-000

Take notice that during the month of January 2021, the status of the above-captioned entities as Exempt Wholesale Generators became effective by operation of the Commission's regulations. 18 CFR 366.7(a) (2020).

Dated: February 10, 2021.
Nathaniel J. Davis, Sr.,
Deputy Secretary.

[FR Doc. 2021-03148 Filed 2-16-21; 8:45 am]

BILLING CODE 6717-01-P